DEPARTMENT OF HOUSING AND URBAN DEVELOPMENT

[Docket No. FR-5031-C-02]

Section 8 Housing Assistance Payments Program—Contract Rent Annual Adjustment Factors, Fiscal Year 2006: Correction

AGENCY: Office of Policy Development and Research, HUD.

ACTION: Notice of revised contract rent Annual Adjustment Factors, correction.

SUMMARY: This notice makes corrections to the revised Annual Adjustment Factors (AAFs) published in the Federal Register on December 1, 2005 (70 FR 72168), for two areas: the Midwest region and the South region. The numbers for these two areas were reversed. The correct numbers were used in calculating Fair Market Rents (FMRs) and in other publications that used FMRs or AAFs.

DATES: Effective Date: December 1, 2005.

FOR FURTHER INFORMATION Contact: David Vargas, Senior Advisor, Housing Voucher Management and Operations Division, Office of Public Housing and Voucher Programs, (202) 708-0477 can respond to questions relating to the Section 8 Voucher, Certificate, and Moderate Rehabilitation programs; Mark Johnston, Office of Special Needs Assistance Programs, Office of Community Planning and Development, (202) 708-1234, for questions regarding the Single Room Occupancy Moderate Rehabilitation program; Willie Spearmon, Director, Office of Housing Assistance and Grant Administration, Office of Housing, (202) 708-3000, for questions relating to all other Section 8 programs. Marie L. Lihn, Economic and Market Analysis Division, Office of Policy Development and Research (202) 708-0590, is the contact for technical information regarding the development of the factors for specific areas or the methods used for calculating the AAFs. Mailing address for above persons: Department of Housing and Urban Development, 451 Seventh Street, SW, Washington, DC 20410. Hearing- or speech-impaired persons may contact the Federal Information Relay Service at 1-800-877-8339 (TTY). (Other than the “800” TTY number, the above-listed telephone numbers are not toll-free.)

Correction

Accordingly, in FR Doc 02-5031, a document published on December 1, 2005 (70 FR 72168), is corrected as follows:

1. On page 72170, Schedule C, Table 1, the entries for Midwest region and South region are corrected to read as follows:

2006 Contract Rents, Table 1 | Highest Cost Utility: Included | Highest Cost Utility: Excluded
Midwest Region | 1.022 | 1.013
South Region | 1.029 | 1.024

1. On page 72175, Schedule C, Table 2, the entries for the Midwest region and the South region are corrected to read as follows:

2006 Contract Rents, Table 2 | Highest Cost Utility: Included | Highest Cost Utility: Excluded
Midwest Region | 1.012 | 1.003
South Region | 1.019 | 1.014

These changes only affect the report as published in the Federal Register. The correct factors were used to update Fair Market Rents. The PHA-designated AAFs do not include this error. It is only an error in the report printed for the Federal Register Notice.

Dated: February 9, 2006.
Harold L. Bunce,
Deputy Assistant Secretary for Economic Affairs.

[FR Doc. E6-2148 Filed 2-14-06; 8:45 am]

BILLING CODE 4210-27-P